DEPARTMENT OF ENERGY

Federal Energy Regulatory Commission

Combined Notice of Filings

Take notice that the Commission has received the following Natural Gas Pipeline Rate and Refund Report filings:

Filings Instituting Proceedings

Docket Numbers: RP16-154-000.

Applicants: Texas Eastern Transmission, LP.

Description: Section 4(d) Rate Filing: Negotiated Rate—Chesapeake 911268 to be effective 11/1/2015.

Filed Date: 10/30/15.

Accession Number: 20151030-5499.

Comments Due: 5 p.m. ET 11/12/15.

Docket Numbers: RP16-155-000.

Applicants: Algonquin Gas Transmission, LLC.

Description: Section 4(d) Rate Filing: Negotiated Rates—Nextera 510828 to be effective 11/1/2015.

Filed Date: 11/2/15.

Accession Number: 20151102-5137.

Comments Due: 5 p.m. ET 11/16/15.

Docket Numbers: RP16-156-000.

Applicants: Equitrans, L.P.

Description: Section 4(d) Rate Filing: Negotiated Capacity Release Agreements—11/01/2015 to be effective 11/1/2015.

Filed Date: 11/2/15.

Accession Number: 20151102-5179.

Comments Due: 5 p.m. ET 11/16/15.

Docket Numbers: RP16-157-000.

Applicants: Algonquin Gas Transmission, LLC.

Description: Section 4(d) Rate Filing: BUG Ramapo release to L&L Energy for 11-1-2015 to be effective 11/1/2015.

Filed Date: 11/2/15.

Accession Number: 20151102-5181.

Comments Due: 5 p.m. ET 11/16/15.

Docket Numbers: RP16-158-000.

Applicants: Algonquin Gas Transmission, LLC.

Description: Section 4(d) Rate Filing: ConEd Ramapo releases 2 for 11-1-2015 to be effective 11/1/2015.

Filed Date: 11/2/15.

Accession Number: 20151102-5182.

Comments Due: 5 p.m. ET 11/16/15.

Docket Numbers: RP16-159-000.

Applicants: Algonquin Gas Transmission, LLC.

Description: Section 4(d) Rate Filing: KeySpan Ramapo release to Alpha for 11-1-2015 to be effective 11/1/2015.

Filed Date: 11/2/15.

Accession Number: 20151102-5184.

Comments Due: 5 p.m. ET 11/16/15.

Docket Numbers: RP16-160-000.

Applicants: Gulf Crossing Pipeline Company LLC.

Description: Section 4(d) Rate Filing: Amendment to Neg Rate Agmt (BP 37-21) to be effective 11/1/2015.

Filed Date: 11/2/15.

Accession Number: 20151102-5187.

Comments Due: 5 p.m. ET 11/16/15.

Docket Numbers: RP16-161-000.

Applicants: Algonquin Gas Transmission, LLC.

Description: Section 4(d) Rate Filing: Negotiated Rates—Plymouth Rock 790838 to be effective 11/1/2015.

Filed Date: 11/2/15.

Accession Number: 20151102-5225.

Comments Due: 5 p.m. ET 11/16/15.

Docket Numbers: RP16-162-000.

Applicants: Gulf South Pipeline Company, LP.

Description: Section 4(d) Rate Filing: Rate Case Settlement Amendments to be effective 11/1/2015.

Filed Date: 11/2/15.

Accession Number: 20151102-5241.

Comments Due: 5 p.m. ET 11/16/15.

Docket Numbers: RP16-163-000.

Applicants: Algonquin Gas Transmission, LLC.

Description: Section 4(d) Rate Filing: Negotiated Rates—BP Energy 790839 to be effective 11/1/2015.

Filed Date: 11/2/15.

Accession Number: 20151102-5246.

Comments Due: 5 p.m. ET 11/16/15.

Docket Numbers: RP16-164-000.

Applicants: Tennessee Gas Pipeline Company, L.L.C.

Description: Section 4(d) Rate Filing: Volume No. 2—Cargill, Incorporated SP315848 to be effective 11/1/2015.

Filed Date: 11/2/15.

Accession Number: 20151102-5261.

Comments Due: 5 p.m. ET 11/16/15.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP15-1252-001.

Applicants: Columbia Gas Transmission, LLC.

Description: Compliance filing Negotiated Rate & Non-Conforming ESE—SWN Energy Compliance to be effective 10/1/2015.

Filed Date: 11/2/15.

Accession Number: 20151102-5257.

Comments Due: 5 p.m. ET 11/16/15.

Docket Numbers: RP15-1253-001.

Applicants: Columbia Gas Transmission, LLC.

Description: Compliance filing Negotiated Rate & Non Conforming ESE SJ Resources Compliance.

Filed Date: 11/2/15.

Accession Number: 20151102-5258.

Comments Due: 5 p.m. ET 11/16/15.

Docket Numbers: RP16-137-001.

Applicants: Tallgrass Interstate Gas Transmission, L.

Description: Tariff Amendment: Amendment to RP16-137 to be effective 12/1/2015.

Filed Date: 11/2/15.

Accession Number: 20151102-5259.

Comments Due: 5 p.m. ET 11/12/15.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 3, 2015.
Nathaniel J. Davis, Sr.,
Deputy Secretary.

[FR Doc. 2015-28523 Filed 11-9-15; 8:45 am]

BILLING CODE 6717-01-P